DEPARTMENT OF HOMELAND SECURITY

Coast Guard

33 CFR Part 165

[Docket Number USCG-2025-0135]

RIN 625-AA00

Safety Zones; Erie, PA; Detroit, MI; Duluth, MN

AGENCY: Coast Guard, DHS.

ACTION: Temporary final rule.

SUMMARY: The Coast Guard is establishing temporary safety zones around each tall ship visiting the Great Lakes during the Tall Ships Challenge 2025 race series beginning on July 10, 2025 through October 1, 2025. These safety zones will provide for the regulation of vessel traffic in the vicinity of each tall ship in the navigable waters of the United States. The Coast Guard is taking this action to safeguard participants and spectators from the hazards associated with the limited maneuverability of these tall ships and to ensure public safety during tall ships events.

DATES: This rule is effective from July 10, 2025 through October 1, 2025.

ADDRESSES: To view documents mentioned in this preamble as being available in the docket, go to https://www.regulations.gov, type USCG-2025-0135 in the search box and click “Search.” Next, in the Document Type column, select “Supporting & Related Material.”

FOR FURTHER INFORMATION CONTACT: If you have questions about this rule, call or email LTJG Jonathan Tripi, Ninth District Waterways Management, U.S. Coast Guard; 216-902-6078, jonathan.r.tripi@uscg.mil

SUPPLEMENTARY INFORMATION:

I. Table of Abbreviations

CFR Code of Federal Regulations

DHS Department of Homeland Security

FR Federal Register

NPRM Notice of proposed rulemaking

§ Section

U.S.C. United States Code

II. Background Information and Regulatory History

On October 2, 2024, Tall Ships America notified the Coast Guard that from July 10, 2025 through October 1, 2025, it will be conducting maritime parades, training cruises, races, and mooring in the ports of Erie, PA, Detroit, MI, and Duluth, MN. In response, on May 1, 2025, the Coast Guard published a notice of proposed rulemaking (NPRM) titled Safety Zones; Erie, PA; Detroit, MI; Duluth, MN (90 FR 18635). There we stated why we issued the NPRM and invited comments on our proposed regulatory action related to these Tall Ship events. During the comment period that ended June 2, 2025, we received zero comments.

III. Legal Authority and Need for Rule

The Coast Guard is issuing this rule under the authority in 46 U.S.C. 70034. The Captain of the Port (COTP) of the respective areas expect a large number of spectators in confined areas adjacent to the tall ships. The combination of large numbers of recreational boaters, congested waterways, boaters crossing commercially transited waterways, and low maneuverability of the tall ships could easily result in serious injuries or fatalities. Therefore, the Coast Guard will enforce safety zones around each ship to ensure the safety of both participants and spectators in these areas.

IV. Discussion of Comments, Changes, and the Rule

As noted above, we received no comments on our NPRM published May 1, 2025. There are no changes in the regulatory text of this rule from the proposed rule in the NPRM.

This rule establishes safety zones from 12:01 a.m. on July 10, 2025 until 12:01 a.m. on October 1, 2025. The safety zones will cover all navigable waters within 100 yards of a tall ship in the Great Lakes. The duration of the zones are intended to ensure the safety of vessels and these navigable waters during the 2025 Tall Ships Challenge. No vessel or person would be permitted to enter the safety zones without obtaining permission from the COTP or a designated representative. If the tall ships are operating in a confined area such as a small harbor, and there is not adequate room for vessels to stay out of the safety zones because of a lack of navigable water, then vessels will be permitted to operate within the safety zones and must travel at the minimum speed necessary to maintain a safe course. Vessels operating in these confined areas may not operate within 25 yards of the tall ship unless they receive authorization from the COTP or a designated representative. The navigation rules must apply at all times within any of the safety zones.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on the size, location, duration and time of day of the regulated area. Vessel traffic would be able to safely transit around these safety zones which would not impact vessel traffic. Moreover, the Coast Guard will issue Broadcast Notice to Mariners via VHF-FM marine channel 16 about the zones as well as giving the public notice via Local Notice to Mariners.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received zero comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves safety zones lasting more than one week. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T09-0135 to read as follows:

§ 165.T09-0135 Safety Zones; Tall Ships Challenge Great Lakes 2025; Erie, PA, Detroit, MI, and Duluth, MN.

(a) Definitions. As used in this section:

Navigation rules means the Navigation Rules, International and Inland (see, 1972 COLREGS and 33 U.S.C. 2001 et seq.).

Official patrol means those persons designated by Captain of the Port: Erie, Detroit, and Duluth to monitor tall ship safety zones, permit entry into the zones, give legally enforceable orders to persons or vessels within the zones, and take other actions authorized by the cognizant Captain of the Port (COTP).

Public vessel means vessels owned, chartered, or operated by the United States or by a State or political subdivision thereof.

Tall ship means any sailing vessel participating in the Tall Ships Challenge 2025 in the Great Lakes.

(b) Location. The following areas are safety zones: All navigable waters of the United States located in the Ninth Coast Guard District within a 100-yard radius of any tall ship.

(c) Regulations. (1) No person or vessel is allowed within the safety zones, unless authorized by the cognizant Captain of the Port, their designated representative, or the on-scene official patrol.

(2) Persons or vessels operating within a confined harbor or channel, where there is not sufficient navigable water outside of the safety zones to safely maneuver, are not allowed to operate within the safety zones unless authorized by the COTP, designated representative, or the on-scene patrol officer.

(3) Persons or vessels authorized to operate within the safety zones must travel at the minimum speed necessary to maintain a safe course. Persons or vessels authorized to operate within the safety zones must not come within 25 yards of a tall ship, unless authorized by the COTP, designated representative, or the on-scene official patrol.

(4) When a tall ship approaches any vessel that is moored or anchored, the stationary vessel must stay moored or anchored while it remains within the tall ship's safety zones unless ordered by or given permission from the COTP, designated representative, or the on-scene official patrol to do otherwise.

(d) Enforcement period. This section will be enforced from 12:01 a.m. on July 10, 2025, to 12:01 a.m. on October 1, 2025.

Dated: June 9, 2025.
M.I. Kuperman,
Captain, U.S. Coast Guard, Acting Commander, Ninth Coast Guard District.

[FR Doc. 2025-11203 Filed 6-17-25; 8:45 am]

BILLING CODE 9110-04-P